DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, Division of Injury Compensation Programs, 5600 Fishers Lane, Room 14W-18, Rockville, Maryland 20857; 1-800-338-2382, or visit our website at: https://www.hrsa.gov/vaccine-compensation.

SUPPLEMENTARY INFORMATION: The Program provides a system of no-fault compensation for certain individuals who have been injured by specific vaccines. Subtitle 2 of Title XXI of the PHS Act, 42 U.S.C. 300aa-10 et seq., provides that those seeking compensation are to file a petition with the United States Court of Federal Claims and to serve a copy of the petition to the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on January 1, 2026, through January 31, 2026. This list provides the name of the petitioner, city, and state of vaccination (if unknown then the city and state of the person or attorney filing the claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and 3 copies of the information with the Clerk of the United States Court of Federal Claims at the address listed above (under the heading For Further Information Contact), with a copy to HRSA addressed to Director, Division of Injury Compensation Programs, Health Systems Bureau, 5600 Fishers Lane, 14W-18, Rockville, Maryland 20857. The Court's caption (Petitioner's Name v. Secretary of HHS) and the docket number assigned to the petition should be used as the caption for the written submission. Chapter 35 of Title 44, United States Code, related to paperwork reduction, does not apply to information required for purposes of carrying out the Program.

Thomas J. Engels,
Administrator.

List of Petitions Filed

1. Lisa Thomsen, Eugene, Oregon, Court of Federal Claims No: 26-0002V.

2. Ariel Lee, Alton, Illinois, Court of Federal Claims No: 26-0003V.

3. Lavinia Gleaton, Charlotte, North Carolina, Court of Federal Claims No: 26-0004V.

4. Teresa Ahmadyar, Corona, California, Court of Federal Claims No: 26-0005V.

5. Alyssa Manasan, Victorville, California, Court of Federal Claims No: 26-0009V.

6. Christine Bronsart, Victorville, California, Court of Federal Claims No: 26-0010V.

7. William Scott Mahr, Baltimore, Maryland, Court of Federal Claims No: 26-0013V.

8. Audrea Rush, Chicago, Illinois, Court of Federal Claims No: 26-0014V.

9. Bernadette Hill, South Portland, Maine, Court of Federal Claims No: 26-0015V.

10. Celena DeGloma, Brooklyn, New York, Court of Federal Claims No: 26-0017V.

11. Samantha LaPera, Thornton, Colorado, Court of Federal Claims No: 26-0020V.

12. Ashton Collins, New York, New York, Court of Federal Claims No: 26-0021V.

13. Carol Pennington on behalf of the Estate of William Gracie, Deceased, Frisco, Texas, Court of Federal Claims No: 26-0025V.

14. Stacie Sebastian, Allentown, Pennsylvania, Court of Federal Claims No: 26-0026V.

15. Jadah Martinez, Memphis, Tennessee, Court of Federal Claims No: 26-0027V.

16. Everett Beldin, Bethesda, Maryland, Court of Federal Claims No: 26-0029V.

17. Yvonne Fleischman, Bethesda, Maryland, Court of Federal Claims No: 26-0031V.

18. Joy Sears, South Burlington, Vermont, Court of Federal Claims No: 26-0033V.

19. Paul Briody, South Burlington, Vermont, Court of Federal Claims No: 26-0034V.

20. Shawn Robinson, Johnstown, Pennsylvania, Court of Federal Claims No: 26-0035V.

21. Andrea Forosisky, Johnstown, Pennsylvania, Court of Federal Claims No: 26-0037V.

22. Paula Skopow, Meadville, Pennsylvania, Court of Federal Claims No: 26-0038V.

23. Louise Kempe, Mequon, Wisconsin, Court of Federal Claims No: 26-0039V.

24. Holly Chargin, Washington, District of Columbia, Court of Federal Claims No: 26-0040V.

25. Matthew Parker, Palm Beach Gardens, Florida, Court of Federal Claims No: 26-0041V.

26. Dana Vario, Palm Beach Gardens, Florida, Court of Federal Claims No: 26-0042V.

27. Keith Zingler, West Bend, Wisconsin, Court of Federal Claims No: 26-0043V.

28. Maria Avola, Derry, New Hampshire, Court of Federal Claims No: 26-0044V.

29. Rosana Brooks, Cheney, Washington, Court of Federal Claims No: 26-0045V.

30. Runny Summerville, Milwaukee, Wisconsin, Court of Federal Claims No: 26-0046V.

31. Gabriel Bare, Black River Falls, Wisconsin, Court of Federal Claims No: 26-0047V.

32. Crystal Michel, Carencro, Louisiana, Court of Federal Claims No: 26-0048V.

33. Leslie Kelly, Roseville, California, Court of Federal Claims No: 26-0049V.

34. Olomeruom Okonta, Houston, Texas, Court of Federal Claims No: 26-0050V.

35. Valerie Garrido-Sotolongo, Spotswood, New Jersey, Court of Federal Claims No: 26-0051V.

36. Cathy Dove, Dresher, Pennsylvania, Court of Federal Claims No: 26-0052V.

37. Deanna Baker, Washington, District of Columbia, Court of Federal Claims No: 26-0053V.

38. Haifeng Zheng, Torrance, California, Court of Federal Claims No: 26-0054V.

39. Laquera Barnett, Washington, District of Columbia, Court of Federal Claims No: 26-0055V.

40. Autumn Alnadawi, Washington, District of Columbia, Court of Federal Claims No: 26-0056V.

41. Harry Waugh, Egg Harbor Township, New Jersey, Court of Federal Claims No: 26-0058V.

42. Michael Mark, Old Greenwich, Connecticut, Court of Federal Claims No: 26-0059V.

43. Elizabeth Favata, Wausau, Wisconsin, Court of Federal Claims No: 26-0060V.

44. Lindsay Hendrix, Granite City, Illinois, Court of Federal Claims No: 26-0062V.

45. Melissa Rascoe, Nashua, New Hampshire, Court of Federal Claims No: 26-0065V.

46. Mason Billings, Washington, District of Columbia, Court of Federal Claims No: 26-0066V.

47. Jacqueline Byrne, Washington, District of Columbia, Court of Federal Claims No: 26-0067V.

48. Andrea Chan, Washington, District of Columbia, Court of Federal Claims No: 26-0068V.

49. Terry Craft, Washington, District of Columbia, Court of Federal Claims No: 26-0069V.

50. Laura Leggette, Washington, District of Columbia, Court of Federal Claims No: 26-0070V.

51. Benjamin Limon, Washington, District of Columbia, Court of Federal Claims No: 26-0071V.

52. Kristin Mackey, Washington, District of Columbia, Court of Federal Claims No: 26-0072V.

53. Michelle McNeal, Washington, District of Columbia, Court of Federal Claims No: 26-0073V.

54. Rita Morales-Dotson, Washington, District of Columbia, Court of Federal Claims No: 26-0074V.

55. Latonya Morman, Washington, District of Columbia, Court of Federal Claims No: 26-0075V.

56. Lindsee Myers, Washington, District of Columbia, Court of Federal Claims No: 26-0076V.

57. James Nguyen, Washington, District of Columbia, Court of Federal Claims No: 26-0077V.

58. Jacqueline Norris, Washington, District of Columbia, Court of Federal Claims No: 26-0078V.

59. Noreen Perlo, Washington, District of Columbia, Court of Federal Claims No: 26-0079V.

60. Nadine Perry, Washington, District of Columbia, Court of Federal Claims No: 26-0080V.

61. Kidane Yosief on behalf of NKY, Austin, Texas, Court of Federal Claims No: 26-0081V.

62. Michael P. Szczepanik, Williamsville, New York, Court of Federal Claims No: 26-0082V.

63. Margie Chaney, San Antonio, Texas, Court of Federal Claims No: 26-0083V.

64. Thomas Truxton, Pennsauken, New Jersey, Court of Federal Claims No: 26-0084V.

65. Amber Smith, Tecumseh, Michigan, Court of Federal Claims No: 26-0085V.

66. Margaret Rayburn, New York, New York, Court of Federal Claims No: 26-0086V.

67. Rebekah Decker, Salt Lake City, Utah, Court of Federal Claims No: 26-0087V.

68. Anthony Daniel, North Brunswick, New Jersey, Court of Federal Claims No: 26-0088V.

69. Lucas Martins, Woodridge, Illinois, Court of Federal Claims No: 26-0089V.

70. Elvin Isaac Canas Alvarado, Phoenix, Arizona, Court of Federal Claims No: 26-0090V.

71. David Monk on behalf of the Estate of Christine Lee Monk, Deceased, Euless, Texas, Court of Federal Claims No: 26-0091V.

72. Marcia Miley, Salem, Oregon, Court of Federal Claims No: 26-0092V.

73. Margaret Cosgrove, Cheney, Washington, Court of Federal Claims No: 26-0095V.

74. Alfred Pembrick, Grandview, Missouri, Court of Federal Claims No: 26-0096V.

75. Michael Boyd, Memphis, Tennessee, Court of Federal Claims No: 26-0097V.

76. Diane Bell, Strongsville, Ohio, Court of Federal Claims No: 26-0098V.

77. Kathy Morren, Reed City, Michigan, Court of Federal Claims No: 26-0099V.

78. Benny Tang, New York, New York, Court of Federal Claims No: 26-0100V.

79. Francis Iki, Houston, Texas, Court of Federal Claims No: 26-0105V.

80. Jacquelyn Aker, Chicago, Illinois, Court of Federal Claims No: 26-0106V.

81. Michelle Meyer, Washington, District of Columbia, Court of Federal Claims No: 26-0107V.

82. Jideofor Anene, Sarasota, Florida, Court of Federal Claims No: 26-0110V.

83. April Diviney, McMinnville, Oregon, Court of Federal Claims No: 26-0111V.

84. William Spargo, Livonia, Michigan, Court of Federal Claims No: 26-0113V.

85. Linda McKinney, Carmel, Indiana, Court of Federal Claims No: 26-0114V.

86. Landon Damiao, Woodridge, Illinois, Court of Federal Claims No: 26-0115V.

87. Hooman Enayati, Bethlehem, Pennsylvania, Court of Federal Claims No: 26-0116V.

88. Shane Kearney, Louisville, Kentucky, Court of Federal Claims No: 26-0117V.

89. Betty McMullin, Hilo, Hawaii, Court of Federal Claims No: 26-0118V.

90. Sierra Chip, Washington, District of Columbia, Court of Federal Claims No: 26-0119V.

91. Lynn Ashley, Chattanooga, Tennessee, Court of Federal Claims No: 26-0120V.

92. Hollie Baker, Gambrills, Maryland, Court of Federal Claims No: 26-0121V.

93. Anthony Romero, Chelsea, Michigan, Court of Federal Claims No: 26-0122V.

94. Kala Barnes, Watertown, Wisconsin, Court of Federal Claims No: 26-0125V.

95. Barbara Felts, Rehoboth Beach, Delaware, Court of Federal Claims No: 26-0126V.

96. Tina Stephenson, Englewood, New Jersey, Court of Federal Claims No: 26-0127V.

97. Kayla Craig, Knoxville, Tennessee, Court of Federal Claims No: 26-0129V.

98. Tamika Graham, Philadelphia, Pennsylvania, Court of Federal Claims No: 26-0130V.

99. Kenneth Duane Harlan, Colorado Springs, Colorado, Court of Federal Claims No: 26-0131V.

100. Ivelisse Reyes, Saugus, Massachusetts, Court of Federal Claims No: 26-0132V.

101. Dana Munoz, Ocala, Florida, Court of Federal Claims No: 26-0133V.

102. Daniel Weinstein, Washington, District of Columbia, Court of Federal Claims No: 26-0134V.

103. Luis Camacho, Fishkill, New York, Court of Federal Claims No: 26-0135V.

104. Hailey Wurz on behalf of H.M. Southern Pines, North Carolina, Court of Federal Claims No: 26-0136V.

105. Brent Westrick, Clovis, California, Court of Federal Claims No: 26-0137V.

106. Priscilla Rosario, Hollywood, Florida, Court of Federal Claims No: 26-0138V.

107. Tanner Sarvis, Marion, South Carolina, Court of Federal Claims No: 26-0139V.

108. Sonja Sanxay, Bristol, Tennessee, Court of Federal Claims No: 26-0141V.

109. Donald Cooley, Cincinnati, Ohio, Court of Federal Claims No: 26-0143V.

110. Jessica Wilson, Athens, Tennessee, Court of Federal Claims No: 26-0145V.

111. Ashley Forty on behalf of L.B., Albany, Oregon, Court of Federal Claims No: 26-0147V.

112. Andrea Dutkin, Walnut Creek, California, Court of Federal Claims No: 26-0149V.

113. Janet Parker, Green Bay, Wisconsin, Court of Federal Claims No: 26-0153V.

114. Wilma Rosario, Stroudsburg, Pennsylvania, Court of Federal Claims No: 26-0154V.

115. Ashley Rojas, Englewood, New Jersey, Court of Federal Claims No: 26-0159V.

116. Alan Foster, Midland, Michigan, Court of Federal Claims No: 26-0162V.

117. Summer Bragg on behalf of T.S., Deceased, Ronceverte, West Virginia, Court of Federal Claims No: 26-0164V.

[FR Doc. 2026-03631 Filed 2-23-26; 8:45 am]

BILLING CODE 4165-15-P